DEPARTMENT OF HOMELAND SECURITY

Coast Guard

33 CFR Part 117

[Docket No. USCG-2012-0895]

Drawbridge Operation Regulations; Taunton River, MA

AGENCY: Coast Guard, DHS.

ACTION: Notice of deviation from drawbridge regulation; request for comments.

SUMMARY: The Coast Guard has issued a temporary deviation from the operating schedule that governs the Veterans Memorial Bridge across the Taunton River, mile 2.1, between Fall River and Somerset, Massachusetts. This deviation will test a change to the drawbridge operation schedule to determine whether a permanent change to the schedule is needed. This deviation will allow us to test an operating schedule to help determine the hours the bridge should be crewed. It is expected that this test will help determine the best operating schedule that will meet the present and future needs of navigation.

DATES: This deviation is effective from December 1, 2012, through May 29, 2013.

Comments and related material must be received by the Coast Guard on or before June 1, 2013. Requests for public meetings must be received by the Coast Guard on or before March 1, 2013.

ADDRESSES: You may submit comments identified by docket number USCG-2012-0895 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except federal holidays. The telephone number is 202-366-9329.

See the “Public Participation and Request for Comments” portion of the SUPPLEMENTARY INFORMATION section below for instructions on submitting comments. To avoid duplication, please use only one of these four methods. See the “Public Participation and Request for Comments” portion of the SUPPLEMENTARY INFORMATION section below for instructions on submitting comments.

FOR FURTHER INFORMATION CONTACT: If you have questions on this temporary deviation, call or email Mr. John McDonald, Project Officer, First Coast Guard District bridge Program the Coast Guard; telephone 617-223-8364, email john.w.mcdonald@uscg.mil. If you have questions on viewing or submitting material to the docket, call Renee V. Wright, Program Manager, Docket Operations, telephone 202-366-9826.

SUPPLEMENTARY INFORMATION:

A. Public Participation and Request for Comments

We encourage you to participate in this rulemaking by submitting comments and related materials. All comments received will be posted, without change, to http://www.regulations.gov and will include any personal information you have provided.

1. Submitting Comments

If you submit a comment, please include the docket number for this rulemaking (USCG-2012-0895), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, go to http://www.regulations.gov, insert “USCG-2012-0895” in the Search box, click “Search,” look for this notice of deviation in the docket and click on the “submit a comment” box on that same line. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, insert “USCG-2012-0895” in the Search box, and click “Search.” You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one on or before March 1, 2013, using one of the four methods specified under ADDRESSES. Please explain why one would be beneficial. If we determine that one would aid this rulemaking, we will hold one at a time and place announced by a later notice in the Federal Register.

B. Basis and Purpose

The Veterans Memorial Bridge at mile 2.1, across the Taunton River between Somerset and Fall River, Massachusetts, has a vertical clearance of 60 feet at mean high water and 66 feet at mean low water. The horizontal clearance is 200 feet between the bridge protective fenders. The drawbridge operation regulations listed at 33 CFR 117.5, require the bridge to open on signal at all times.

The waterway users are predominantly seasonal recreational vessels.

The Veterans Memorial Bridge is a newly constructed double leaf bascule highway bridge at mile 2.1, upstream from the existing Brightman Street Route 6 highway bridge at mile 1.8, across the Taunton River.

The owner of the bridge, Massachusetts Department of Transportation, submitted a request to the Coast Guard to change the drawbridge operating regulations that presently require the draw to be crewed 24 hours a day and open on signal at all times.

The bridge owner proposes to crew the bridge less than 24 hours a day and operate the bridge as follows: The draw shall open on signal between 5 a.m. and 9 p.m. daily. From 9 p.m. through 5 a.m., the draw shall open on signal after at least a 1-hour advance notice is given by calling the number posted at the bridge. From 6 p.m. on December 24 to midnight on December 25, and from 6 p.m. on December 31 to midnight on January 1, the draw shall open on signal if at least a 2-hour advance notice is given by calling the number posted at the bridge.

The Coast Guard has decided to test the designated operating hours for the new bridge for 180 days to help determine if this schedule will meet the reasonable needs of navigation that presently transit the new bridge. Since this is a new bridge there is no historical record of bridge openings to help us determine if this request is reasonable.

It is anticipated that due to the high vertical clearance of 60 feet at mean high water and 66 feet at mean low, that the bridge should not be required to open frequently except for large sail vessels.

In accordance with 33 CFR 117.35(e), the drawbridge must return to its regular operating schedule immediately at the end of the effective period of this deviation. This deviation from the operating regulations is authorized under 33 CFR 117.35.

Dated: October 16, 2012.
Gary Kassof,
Bridge Program Manager, First Coast Guard District.

[FR Doc. 2012-26600 Filed 10-29-12; 8:45 am]

BILLING CODE 9110-04-P